DEPARTMENT OF COMMERCE

International Trade Administration

North American Free-Trade Agreement, Article 1904 NAFTA Panel Reviews; Completion of Panel Review

AGENCY: NAFTA Secretariat, United States Section, International Trade Administration, Commerce.

ACTION: Notice of completion of panel review of the final affirmative antidumping determination made by the U.S. International Trade Administration, in the matter of Certain Softwood Lumber Products from Canada, Secretariat File No. USA-CDA-2002-1904-02.

SUMMARY: Pursuant to the Decision of the Binational Panel dated January 5, 2007, respecting the motions to dismiss the final affirmative antidumping determination filed by the United States Department of Commerce and the Government of Canada, this proceeding was completed on February 16, 2007.

FOR FURTHER INFORMATION CONTACT: Caratina L. Alston, United States Secretary, NAFTA Secretariat, Suite 2061, 14th and Constitution Avenue, Washington, DC 20230, (202) 482-5438.

SUPPLEMENTARY INFORMATION: On January 5, 2007, the Binational Panel issued an order, which concluded that this matter has been rendered moot and granted the motions of the Administering Authority (the International Trade Administration) and the Government of Canada to dismiss this proceeding. The Secretariat was instructed to issue a Notice of Completion of Panel Review on the 31st day following the issuance of the Notice of Final Panel Action, if no request for an Extraordinary Challenge was filed. No such request was filed. Therefore, on the basis of the Panel Order and Rule 80 of the Article 1904 Panel Rules, the Panel Review was completed and the panelists discharged from their duties effective February 16, 2007.

Dated: February 20, 2007.
Caratina L. Alston,
United States Secretary, NAFTA Secretariat.

[FR Doc. E7-3156 Filed 2-23-07; 8:45 am]

BILLING CODE 3510-GT-P